DEPARTMENT OF HOUSING AND URBAN DEVELOPMENT

Office of Federal Housing Enterprise Oversight

Solicitation of Public Comments on Systemic Risk

AGENCY: Office of Federal Housing Enterprise Oversight, HUD.

ACTION: Extension of the period for the submission of public comments.

SUMMARY: On October 30, 2000, the Office of Federal Housing Enterprise Oversight (OFHEO) published a notice entitled “Solicitation of Public Comments on Systemic Risk” in the Federal Register (65 FR 64718). OFHEO sought to examine the nature and magnitude of any risks the Federal National Mortgage Association (Fannie Mae) and the Federal Home Loan Mortgage Corporation (Freddie Mac) may pose to the financial system in general and to the U.S. housing finance markets in particular; whether and to what extent Fannie Mae and Freddie Mac contribute to or mitigate systemic risk; and actions that OFHEO and others could take to limit any systemic risk the Enterprises may pose. OFHEO has been requested to extend the comment period. To ensure that the public has ample opportunity to participate in the solicitation, today's notice extends the public comment period from December 29, 2000, through January 29, 2001.

DATES: The comment period is extended until January 29, 2001.

ADDRESSES: Send written comments to Robert S. Seiler, Jr., Manager of Policy Analysis, Office of Federal Housing Enterprise Oversight, 1700 G. Street, NW., Fourth Floor, Washington, DC 20552. All comments will be posted on the OFHEO web site at http://www.ofheo.gov. OFHEO requests that written comments submitted in hard copy also be accompanied by an electronic version in MS Word© or in portable document format (PDF) on 3.5″ disk. Alternatively, comments may also be sent by electronic mail to sysrisk@ofheo.gov.

FOR FURTHER INFORMATION CONTACT: Robert S. Seiler, Jr., Manager of Policy Analysis, Office of Federal Housing Enterprise Oversight, 1700 G Street, NW., Fourth Floor, Washington, DC 20552, telephone (202) 414-3785 (not a toll free number). The telephone number for the Telecommunications Device for the Deaf is: (800) 877-8339.

Dated: December 14, 2000.
Armando Falcon, Jr.,
Director, Office of Federal Housing Enterprise Oversight.

[FR Doc. 00-32325 Filed 12-19-00; 8:45 am]

BILLING CODE 4220-01-U